DEPARTMENT OF ENERGY

10 CFR Parts 429, 430, and 431

[Docket No. EERE-2010-BT-CE-0014]

RIN 1904-AC23

Energy Conservation Program: Certification, Compliance, and Enforcement for Consumer Products and Commercial and Industrial Equipment; Correction

AGENCY: Office of Energy Efficiency and Renewable Energy, Department of Energy.

ACTION: Notice of proposed rulemaking and public meeting; correction.

SUMMARY: This document corrects the DATES section to a notice of proposed rulemaking and public meeting which published in the Federal Register on September 16, 2010, regarding the Energy Conservation Program: Certification, Compliance, and Enforcement for Consumer Products and Commercial and Industrial Equipment. This correction revises the dates relating to a public meeting.

FOR FURTHER INFORMATION CONTACT: Ashley Armstrong, 202-586-6590, e-mail: Ashley.Armstrong@ee.doe.gov, or Celia Sher, Esq., 202-287-6122, e-mail: Celia.Sher@hq.doe.gov.

Correction:

In proposed rule document FR 2010-22353 appearing on page 56796, in the issue of Thursday, September 16, 2010, the following correction should be made:

On page 56796, in the first column, the first paragraph in the DATES section is corrected to the following:

DATES: DOE will hold a public meeting on Thursday, September 30, 2010, from 9 a.m. to 4 p.m., in Washington, DC. DOE must receive requests to speak at the public meeting before 4 p.m., Thursday, September 23, 2010. Additionally, DOE plans to conduct the public meeting via webinar. To participate via Webinar, DOE must be notified by no later than Thursday, September 23, 2010. Participants seeking to present statements in person during the meeting must submit to DOE a signed original and an electronic copy of statements to be given at the public meeting before 4 p.m., Thursday, September 23, 2010.

Issued in Washington, DC, on September 16, 2010.
Cathy Zoi,
Assistant Secretary, Energy Efficiency and Renewable Energy.

[FR Doc. 2010-23586 Filed 9-16-10; 4:15 pm]

BILLING CODE 6450-01-P